DEPARTMENT OF COMMERCE

Census Bureau

2020 Census Tribal Consultation; Virtual Public Meeting

AGENCY: Census Bureau, Department of Commerce.

ACTION: Notice of virtual public meeting.

SUMMARY: The Census Bureau will conduct a tribal consultation on the next set of 2020 Census Data Products on November 18, 2021, through a national webinar. The tribal consultation meeting reflects the Census Bureau's continuous commitment to strengthen government-to-government relationships with federally recognized tribes. The Census Bureau's procedures for outreach, notice, and consultation ensure involvement of tribes, to the extent practicable and permitted by law, before making decisions or implementing policies, rules, or programs that affect federally recognized tribal governments. These meetings are open to citizens of federally and state recognized tribes by invitation.

DATES: The Census Bureau will conduct the tribal consultation webinar on Thursday, November 18, 2021, from 3:00 p.m. to 4:30 p.m. EST. Any questions or topics to be considered in the tribal consultation meetings must be received in writing via email by Monday, November 15, 2021.

ADDRESSES: The Census Bureau tribal consultation webinar meeting will be held via the WebEx platform at the following presentation link: https://uscensus.webex.com/uscensus/onstage/g.php?MTID=e780a0783827fbb98bb9fa07ca2b01ce1.

If the webinar requires a password, type: Census#1. For audio, please call the following number: 1-877-601-4484 OR 1-630-395-0021. When prompted, please use the following Participant Code: 2160257.

Submit your comments by email. Send comments to: Dee.A.Alexander@census.gov or OCIA.TAO@census.gov.

FOR FURTHER INFORMATION CONTACT: Dee Alexander, Tribal Affairs Coordinator, Office of Congressional and Intergovernmental Affairs, Intergovernmental Affairs Office, U.S. Census Bureau, Washington, DC 20233; telephone (301) 763-9335; (202) 407-6635 or email at Dee.A.Alexander@census.gov or ocia.tao@census.gov.

SUPPLEMENTARY INFORMATION: The Census Bureau is planning one national webinar on November 18, 2021, with federally and state recognized tribes, which will provide a forum for tribes to review 2020 Census Data Product Planning Crosswalk (Crosswalk) and the proposed 2020 Census data products and view the Census Bureau's demonstration of the features and information in the Crosswalk to provide input on these products. The Crosswalk includes information on the recently released 2020 Census Redistricting Data (Pub. L. 94-171) Summary File tables and proposed data tables for the 2020 Census Demographic Profile, Demographic and Housing Characteristics File (DHC) and Detailed Demographic and Housing Characteristics File (Detailed DHC).

The layout of the Crosswalk includes a proposed list of tables for these 2020 Census data products compared to the published list of tables from the 2010 Census. The proposed lowest levels of geography, proposed table shells, and the content changes from the 2010 Census are also included. The Crosswalk will provide tribes and tribal data users the opportunity to view the list of proposed Detailed DHC tables and table shells for the first time.

In accordance with Executive Order 13175, Consultation and Coordination with Indian Tribal Governments, issued November 6, 2000, the Census Bureau has adhered to its tribal consultation policy by seeking the input of tribal governments in the planning and implementation of the 2020 Census with the goal of ensuring the most accurate counts and data for the American Indian and Alaska Native population. In that regard, the Census Bureau is seeking comments on the data products included in the Demographic Profile, the DHC and the Detailed DHC.

Demographic Profile

This product will provide selected demographic and housing characteristics about local communities.

• Subjects: 5-year age groups, sex, race, Hispanic or Latino origin, household type, relationship to householder, group quarters population, housing occupancy, and housing tenure.

• Lowest level of geography: Places and minor civil divisions (MCDs).

• Access: data.census.gov.

• Date: Tentatively 2022.

Demographic and Housing Characteristics File (DHC)

The DHC will include some of the demographic and housing tables previously included in the 2010 Census Summary File 1 (SF1).

• Subjects: Age, sex, race, Hispanic or Latino origin, household type, family type, relationship to householder, some subjects provided for major OMB race/ethnicity groups, group quarters population, housing occupancy, and housing tenure.

• Access: data.census.gov.

• Lowest level of geography: To be determined.

• Date: Tentatively 2022.

Detailed Demographic and Housing Characteristics (Detailed DHC)

The Detailed DHC will provide population counts, as well as demographic and housing statistics for detailed racial and ethnic groups, and American Indian and Alaska Native tribes and villages. These types of statistics were previously included in the 2010 Census Summary File 2 (SF2) and the 2010 American Indian and Alaska Native Summary File (AIANSF). In addition, the Detailed DHC will include a few tables from the 2010 Summary File 1 (SF1) that are not included in the DHC.

• Subjects: Detailed racial and ethnic groups, American Indian and Alaska Native tribes and villages, and complex person and household join tables (e.g., population in occupied housing units) not included in DHC.

• Access: data.census.gov.

• Lowest level of geography: To be determined.

• Date: To be determined.

Information about the content of these data products was released on September 16, 2021. Tribes will have four weeks after consultation to analyze the Crosswalk and proposed data tables and lowest levels of geography to provide input.

1. Crosswalk with proposed Demographic Profile, DHC and Detailed DHC tables released on September 16, 2021.

2. Input and comments due by December 18, 2021. Submit your comments by email. Send comments to: Dee.A.Alexander@census.gov or OCIA.TAO@census.gov.

For more information, please see the following URL link: https://www.census.gov/newsroom/press-releases/2021/2020-census-data-product-planning-crosswalk.html.

Ron S. Jarmin, Acting Director, Census Bureau, approved the publication of this Notice in the Federal Register.

Dated: October 14, 2021.
Sheleen Dumas,
Department PRA Clearance Officer, Office of the Chief Information Officer, Commerce Department.

[FR Doc. 2021-22725 Filed 10-18-21; 8:45 am]

BILLING CODE 3510-07-P